DEPARTMENT OF HEALTH AND HUMAN SERVICES

Food and Drug Administration

21 CFR Parts 20, 25, 170, 184, 186, and 570

[Docket No. FDA-1997-N-0020 (Formerly 97N-0103)]

RIN 0910-AH15

Substances Generally Recognized as Safe

Correction

In rule document 2016-19164 appearing on pages 54959-55055 in the issue of Wednesday, August 17, 2016, make the following correction:

On page 54960, in the first column, the DATES section, beginning in the fourth line, “October 17, 2016” should read “September 16, 2016”.

[FR Doc. C1-2016-19164 Filed 9-7-16; 8:45 am]

BILLING CODE 4164-01-P